DEPARTMENT OF TRANSPORTATION

Federal Aviation Administration

14 CFR Part 39

[Docket No. FAA-2023-0017; Project Identifier AD-2022-01418-T]

RIN 2120-AA64

Airworthiness Directives; The Boeing Company Airplanes

AGENCY: Federal Aviation Administration (FAA), DOT.

ACTION: Supplemental notice of proposed rulemaking (SNPRM).

SUMMARY: The FAA is revising a notice of proposed rulemaking (NPRM) that applied to all The Boeing Company Model 757 airplanes. This action revises the NPRM by adding inspections for airplanes modified to a cargo configuration. The FAA is proposing this airworthiness directive (AD) to address the unsafe condition on these products. Since these actions would impose an additional burden over those in the NPRM, the FAA is requesting comments on this SNPRM.

DATES: The FAA must receive comments on this SNPRM by October 23, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0017; or in person at Docket Operations between 9 a.m. and 5 p.m., Monday through Friday, except Federal holidays. The AD docket contains the NPRM, this SNPRM, any comments received, and other information. The street address for Docket Operations is listed above.

Material Incorporated by Reference:

• For service information identified in this SNPRM, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov by searching for and locating Docket No. FAA-2023-0017.

FOR FURTHER INFORMATION CONTACT: Wayne Ha, Aviation Safety Engineer, FAA, 3960 Paramount Boulevard, Lakewood, CA 90712; phone: 562-627-5238; email: wayne.ha@faa.gov.

SUPPLEMENTARY INFORMATION:

Comments Invited

The FAA invites you to send any written relevant data, views, or arguments about this proposal. Send your comments to an address listed under ADDRESSES. Include “Docket No. FAA-2023-0017; Project Identifier AD-2022-01418-T” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Wayne Ha, Aviation Safety Engineer, FAA, 3960 Paramount Boulevard, Lakewood, CA 90712; phone: 562-627-5238; email: wayne.ha@faa.gov. Any commentary that the FAA receives that is not specifically designated as CBI will be placed in the public docket for this rulemaking.

Background

The FAA issued an NPRM to amend 14 CFR part 39 by adding an AD that would apply to all The Boeing Company Model 757 airplanes. The NPRM published in the Federal Register on January 26, 2023 (88 FR 4920). The NPRM was prompted by the potential for cracks to start in hidden areas underneath the scuff plates in the fuselage skin and bear strap of certain doors. In the NPRM, the FAA stated that certain maintenance inspections do not include a step to remove the scuff plates, which contributes to the inability to find cracks before they become critical. Cracks underneath the scuff plates in the fuselage skin and bear strap, if not addressed, could adversely affect the structural integrity of the airplane.

In the NPRM, the FAA proposed to require a general visual inspection or a maintenance records check for repairs in the areas around the fuselage skin door cutout lower corners of certain doors. The FAA also proposed applicable on-condition actions including repetitive low frequency and high frequency eddy current inspections for cracks in the skin or bear strap in the unrepaired areas, and crack repair.

Actions Since the NPRM Was Issued

Based on the comments the FAA received on the NPRM, the FAA is proposing additional inspections for Model 757-200 series airplanes that have been modified from a passenger configuration to a cargo configuration under supplemental type certificate (STC) ST04242AT, ST03562AT, or ST03952AT. As proposed in the NPRM, for Model 757-200 series airplanes with STC ST04242AT, ST03562AT, or ST03952AT, only the No. 1, No. 2, and No. 4 passenger entry doors, and the No. 1, No. 2, and No. 3 cargo doors, would have to be inspected. With this SNPRM, the FAA is proposing that for those airplanes, the crew entry door and main deck cargo door, as applicable, would also have to be inspected. This change is more fully discussed under the Comments section.

Comments

The FAA received comments from the Air Line Pilots Association, International, Boeing, and United Airlines, who supported the NPRM without change.

The FAA also received comments from Aviation Partners Boeing, VT Mobile Aerospace Engineering (VT MAE), and Federal Express (FedEx). The following presents the comments received on the NPRM and the FAA's response to each comment.

Effect of Winglets on Accomplishment of the Proposed Actions

Aviation Partners Boeing stated that the installation of blended or scimitar blended winglets per STC ST01518SE does not affect compliance with the actions in the proposed AD.

The FAA agrees with the commenter. The FAA has redesignated paragraph (c) of the proposed AD (of the NPRM) as paragraph (c)(1) of this proposed AD (of the SNPRM) and added paragraph (c)(2) to this proposed AD to state that installation of STC ST01518SE does not affect the ability to accomplish the actions required by this AD. Therefore, for airplanes on which STC ST01518SE is installed, a “change in product” alternative method of compliance (AMOC) approval request is not necessary to comply with the requirements of 14 CFR 39.17.

Request To Change Required Inspections and Compliance Time for Airplanes Modified per VT MAE STC ST04242AT

VT MAE requested the FAA change the proposed inspections for airplanes modified under STC ST04242AT from a passenger configuration to a 15-pallet cargo configuration. VT MAE stated that under STC ST04242AT, the No. 1 left hand side (LHS), No. 1 right hand side (RHS), No. 4 LHS, and No. 4 RHS passenger entry doors have been plugged (re-skinned). Thus, the commenter requested the FAA not require these airplanes to be subject to the inspection of the No. 1 LHS, No. 1 RHS, No. 4 LHS and No. 4 RHS passenger entry doors specified in Boeing Alert Requirements Bulletin 757-53A0119 RB, dated October 12, 2022. In addition, the commenter stated that under STC ST04242AT, the crew entry door and the main deck cargo door surround cutout structure is similar to that of Boeing Model 757-200 PF airplanes identified as Group 4 in Boeing Alert Requirements Bulletin 757-53A0119 RB, dated October 12, 2022. As a result, VT MAE requested that these airplanes be required to do the inspection of the crew entry door and main deck cargo door (Table 4 and Table 5 of Boeing Alert Requirements Bulletin 757-53A0119 RB, dated October 12, 2022), that is specified for Group 4 airplanes.

The FAA agrees that Model 757-200 series airplanes modified under VT MAE STC ST04242AT should be subject to the same inspections as those required for Model 757-200 PF series airplanes (Group 4 in the service information), due to the similar design. The FAA has added paragraph (g)(2) of this proposed AD to require these additional inspections. The FAA disagrees with the request to omit the inspection of the passenger doors because the commenter did not submit sufficient data to substantiate an acceptable level of safety.

VT MAE also requested the FAA change the proposed compliance time to start after the airplane is converted from passenger to cargo configuration for the inspection at the door cutout lower corners of the crew entry door and the door cutout lower corners of main deck cargo door. The commenter stated that the cutout structures are newly installed during the freighter conversion.

The FAA disagrees with the request to revise the compliance time because the commenter did not submit sufficient data to substantiate an acceptable level of safety. However, the FAA will consider requests for approval of AMOCs and compliance times if sufficient data is submitted to substantiate the changes would provide an acceptable level of safety.

Request To Add Inspections and Change Compliance Time for Airplanes Modified per VT MAE STC ST03562AT or ST03952AT

FedEx and VT MAE requested the FAA add inspections for airplanes modified from a passenger configuration to a cargo configuration. VT MAE stated that under STCs ST03562AT and ST03952AT, the main deck cargo door surround cutout structure is similar in design to Boeing Model 757-200 airplanes in a special freighter configuration under STC ST00916WI-D (identified as Group 6 in Boeing Alert Requirements Bulletin 757-53A0119 RB, dated October 12, 2022). Thus, VT MAE requested that airplanes modified under STC ST03562AT or ST03952AT be inspected as specified in Boeing Alert Requirements Bulletin 757-53A0119 RB, dated October 12, 2022, including the inspection at the door cutout lower corners of the main deck cargo door specified for Group 6 in Table 5. FedEx made the same request regarding airplanes modified under STC ST03562AT.

The FAA agrees that Model 757-200 airplanes modified under VT MAE STC ST03562AT or ST03952AT should be subject to the same inspections as those required for Model 757-200 airplanes modified under STC ST00916WI-D (Group 6 in the service information), due to the similar design. The FAA has added paragraph (g)(3) of this proposed AD to require these additional inspections.

VT MAE and FedEx also requested the FAA change the proposed compliance time to start after the airplane is converted from passenger to cargo configuration for the inspection at the door cutout lower corners of main deck cargo door. The commenters stated that the cutout structure surrounding the main deck cargo doors are added during passenger-to-cargo conversion, rather than when the airplanes are manufactured.

The FAA disagrees with the request to revise the compliance time because the commenters did not submit sufficient data to substantiate an acceptable level of safety. However, the FAA will consider requests for approval of alternative compliance times as an AMOC if sufficient data is submitted to substantiate the change would provide an acceptable level of safety.

Request To Clarify Exceptions Paragraph

FedEx requested the FAA clarify paragraph (h)(2) of the proposed AD and provided suggested language.

The FAA determined that the language provided by the commenter is identical to the language in paragraph (h)(2) of the proposed AD. However, the FAA has revised the language in paragraph (h)(2) of this proposed AD to clarify which conditions the exception applies to.

FAA's Determination

The FAA is issuing this SNPRM after determining the unsafe condition described previously is likely to exist or develop in other products of the same type design. Certain changes described above expand the scope of the NPRM. As a result, it is necessary to reopen the comment period to provide additional opportunity for the public to comment on this SNPRM.

Related Service Information Under 1 CFR Part 51

The FAA reviewed Boeing Alert Requirements Bulletin 757-53A0119 RB, dated October 12, 2022. This service information specifies procedures for either a general visual inspection or a maintenance records check for repairs in the areas around the fuselage skin door cutout lower corners of the No. 1, No. 2, and No. 4 passenger entry doors; crew entry door; No. 1, No. 2, and No. 3 cargo doors; and main deck cargo door; and applicable on-condition actions, including repetitive low frequency and high frequency eddy current inspections for cracks in the skin or bear strap in the unrepaired areas, and crack repair. This service information is reasonably available because the interested parties have access to it through their normal course of business or by the means identified in ADDRESSES.

Proposed AD Requirements in This SNPRM

This proposed AD would require accomplishing the actions specified in the service information already described, except for any differences identified as exceptions in the regulatory text of this proposed AD. For information on the procedures and compliance times, see this service information at regulations.gov by searching for and locating Docket No. FAA-2023-0017.

Costs of Compliance

The FAA estimates that this AD, if adopted as proposed, would affect 482 airplanes of U.S. registry. The FAA estimates the following costs to comply with this proposed AD:

Estimated Costs
Action | Labor cost | Parts cost | Cost per product | Cost on U.S. operators
General visual inspection for repairs | 1 work-hour × $85 per hour = $85 | $0 | $85 | $40,970

The FAA estimates the following costs to do any necessary on-condition actions that would be required based on the results of the proposed inspection. The agency has no way of determining the number of airplanes that might need these on-condition actions:

On-Condition Costs
Action | Labor cost | Parts cost | Cost per product
Inspections for cracks | Up to 27 work-hours × $85 per hour = Up to $2,295 per inspection cycle | $0 | Up to $2,295 per inspection cycle.

The extent of cracking found during the on-condition inspection could vary significantly from airplane to airplane. The FAA has no way of determining the extent of cracking that may be found on each airplane, the cost to repair the cracking on each airplane, or the number of airplanes that may require repair.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2023-0017; Project Identifier AD-2022-01418-T.

(a) Comments Due Date

The FAA must receive comments on this airworthiness directive (AD) by October 23, 2023.

(b) Affected ADs

None.

(c) Applicability

(1) This AD applies to all The Boeing Company Model 757-200, -200PF, -200CB, and -300 series airplanes, certificated in any category.

(2) Installation of Supplemental Type Certificate (STC) ST01518SE does not affect the ability to accomplish the actions required by this AD. Therefore, for airplanes on which STC ST01518SE is installed, a “change in product” alternative method of compliance (AMOC) approval request is not necessary to comply with the requirements of 14 CFR 39.17.

(d) Subject

Air Transport Association (ATA) of America Code 53, Fuselage.

(e) Unsafe Condition

This AD was prompted by the potential for cracks to start in hidden areas underneath the scuff plates in the fuselage skin and bear strap of certain doors. The FAA is issuing this AD to address cracks caused by higher fatigue stresses at the fuselage skin door cutout lower corners. This unsafe condition, if not addressed, could adversely affect the structural integrity of the airplane.

(f) Compliance

Comply with this AD within the compliance times specified, unless already done.

(g) Required Actions

(1) For all airplanes: Except as specified by paragraph (h) of this AD, at the applicable times specified in the “Compliance” paragraph of Boeing Alert Requirements Bulletin 757-53A0119 RB, dated October 12, 2022, do all applicable actions identified in, and in accordance with, the Accomplishment Instructions of Boeing Alert Requirements Bulletin 757-53A0119 RB, dated October 12, 2022.

(2) For Model 757-200 series airplanes that have been modified from a passenger to cargo configuration under VT Mobile Aerospace Engineering (VT MAE) STC ST04242AT: Except as specified by paragraph (h) of this AD, at the applicable times specified in Table 4 and Table 5 of the “Compliance” paragraph of Boeing Alert Requirements Bulletin 757-53A0119 RB, dated October 12, 2022, do all applicable actions for Group 4 identified in, and in accordance with, Table 4 and Table 5 of the Accomplishment Instructions of Boeing Alert Requirements Bulletin 757-53A0119 RB, dated October 12, 2022.

(3) For Model 757-200 series airplanes that have been modified from a passenger to cargo configuration under VT MAE STC ST03562AT or ST03952AT: Except as specified by paragraph (h) of this AD, at the applicable times specified in Table 5 of the “Compliance” paragraph of Boeing Alert Requirements Bulletin 757-53A0119 RB, dated October 12, 2022, do all applicable actions for Group 6 identified in, and in accordance with, Table 5 of the Accomplishment Instructions of Boeing Alert Requirements Bulletin 757-53A0119 RB, dated October 12, 2022.

Note 1 to paragraph (g): Guidance for accomplishing the actions required by this AD can be found in Boeing Alert Service Bulletin 757-53A0119, dated October 12, 2022, which is referred to in Boeing Alert Requirements Bulletin 757-53A0119 RB, dated October 12, 2022.

(h) Exceptions to Service Information Specifications

(1) Where the Compliance Time columns of the tables in the “Compliance” paragraph of Boeing Alert Requirements Bulletin 757-53A0119 RB, dated October 12, 2022, use the phrase “the original issue date of Requirements Bulletin 757-53A0119 RB,” this AD requires using “the effective date of this AD.”

(2) Where Boeing Alert Requirements Bulletin 757-53A0119RB, dated October 12, 2022, specifies performing a general visual inspection (GVI) or a maintenance records check for any existing repair, if only a maintenance records check is accomplished with no GVI, then any initial high frequency eddy current (HFEC) or low frequency eddy current (LFEC) inspection with a compliance time of before further flight must be done prior to the accumulation of 30,000 total flight cycles, or within 3,000 flight cycles after the effective date of this AD, whichever occurs later.

(3) Where Boeing Alert Requirements Bulletin 757-53A0119 RB, dated October 12, 2022, specifies contacting Boeing for repair instructions or for alternative inspections: This AD requires doing the repair, or doing the alternative inspections and applicable on-condition actions, before further flight using a method approved in accordance with the procedures specified in paragraph (i) of this AD.

(i) AMOCs

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, to make those findings. To be approved, the repair method, modification deviation, or alteration deviation must meet the certification basis of the airplane, and the approval must specifically refer to this AD.

(j) Related Information

(1) For more information about this AD, contact Wayne Ha, Aviation Safety Engineer, FAA, 3960 Paramount Boulevard, Lakewood, CA 90712; phone: 562-627-5238; email: wayne.ha@faa.gov.

(2) Service information identified in this AD that is not incorporated by reference is available at the addresses specified in paragraphs (k)(3) and (4) of this AD.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Boeing Alert Requirements Bulletin 757-53A0119 RB, dated October 12, 2022.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, fr.inspection@nara.gov, or go to: www.archives.gov/federal-register/cfr/ibr-locations.html.

Issued on August 23, 2023.
Victor Wicklund,
Deputy Director, Compliance & Airworthiness Division, Aircraft Certification Service.

[FR Doc. 2023-18839 Filed 9-5-23; 8:45 am]

BILLING CODE 4910-13-P